DEPARTMENT OF COMMERCE

National Oceanic and Atmospheric Administration

RIN: 0648-XB097

New England Fishery Management Council; Public Meeting

AGENCY: National Marine Fisheries Service (NMFS), National Oceanic and Atmospheric Administration (NOAA), Commerce

ACTION: Notice; public meeting.

SUMMARY: The New England Fishery Management Council (Council) is scheduling a public meeting of its Habitat Oversight Committee to consider actions affecting New England fisheries in the exclusive economic zone (EEZ). Recommendations from this group will be brought to the full Council for formal consideration and action, if appropriate.

DATES: This meeting will be held on Friday, April 6, 2012 at 9:30 a.m.

ADDRESSES: The meeting will be held at the Hotel Providence, 139 Mathewson Street, Providence, RI 02903; telephone: (401) 861-8000; fax: (401) 454-4306.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The purpose of this meeting is for the Council's Habitat Committee to recommend management measures for further development and analysis in Omnibus Essential Fish Habitat Amendment 2. Two types of measures will be considered at the meeting: (1) Options to minimize the adverse effects of fishing on Essential Fish Habitat and (2) alternatives to protect deep-sea corals from the impacts of fishing. Specifically, the Committee will review updated boundaries for some of the potential adverse effects minimization areas, and for the discrete coral zones. Other issues related to these options/alternatives will also be discussed. The Council will review the deep-sea coral alternatives at their April 24-26 meeting. Also, the Committee will receive a presentation from Stellwagen Bank National Marine Sanctuary staff regarding an ecological research area proposal that they have developed within the boundaries of the Sanctuary. The Committee is considering designation of dedicated habitat research areas as part of the Omnibus Amendment and requested this briefing at their last meeting. An update about Habitat Plan Development Team work on this topic will also be provided.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: March 15, 2012.
Tracey L. Thompson,
Acting Director, Office of Sustainable Fisheries, National Marine Fisheries Service.

[FR Doc. 2012-6761 Filed 3-20-12; 8:45 am]

BILLING CODE 3510-22-P